GENERAL SERVICES ADMINISTRATION

[2003-N01]

Integrated Acquisition Environment Pilot; Posting Awarded Contracts on the Worldwide Web

AGENCY: The Integrated Acquisition Environment (IAE) Program Office, GSA.

ACTION: Notice and request for comments.

SUMMARY: The Integrated Acquisition Environment (IAE) program office, which is responsible for improving Federal acquisition processes through reliance on a technology-based integrated infrastructure, is initiating a pilot to begin making Federal contracts available to the general public on the worldwide web (web). This pilot effort is intended to increase transparency in agency acquisition activities and further the Administration's global vision of a citizen-centric E-Government. The IAE program office seeks public comment to help in identifying priorities for the pilot's implementation.

DATES: Interested parties should submit comments to the Regulatory Secretariat at the address shown below on or before August 5, 2003.

ADDRESSES: Submit written comments to—General Services Administration, Regulatory Secretariat (MVA), 1800 F Street, NW., Room 4035, ATTN: Laurie Duarte, Washington, DC 20405.

Submit electronic comments via the Internet to—Notice.2003-N01@gsa.gov.

Please submit comments only and cite Notice 2003-N01 in all correspondence related to this case.

FOR FURTHER INFORMATION CONTACT: Ms. Teresa Sorrenti, Project Manager, Integrated Acquisition E-Gov Initiative, by phone at (703) 872-8610 or by e-mail at teresa.sorrenti@gsa.gov.

SUPPLEMENTARY INFORMATION: The Office of Management and Budget (OMB) and the IAE program office seek to promote greater transparency in Government contracting through the effective use of technology. Transparency fosters public confidence in the Government's procurement processes and the critical missions they support.

The Government has taken, and continues to take, important steps to leverage Federal information technology investments and increase transparency in ways that help Federal buyers to achieve better results. For example:

• FedBizOpps (http://www.fedbizopps.gov) enables vendors and other interested members of the public to easily acclimate themselves with the planned procurements of departments and agencies across the executive branch. This gateway hosts a wide variety of business documents, such as notices, solicitations, and other related acquisition information, that vendors need to bid on and negotiate contracts with agencies. The transparency FedBizOpps provides helps to reduce vendor transaction costs. This, in turn, generates competition to lower cost and improve quality in purchases for taxpayers.

• The interagency contract directory (http://www.contractdirectory.gov), which will be rolled out later this year, will provide general information to agencies and the public about awarded contracts that are available to satisfy the needs of other Federal agencies. Information in the directory will be made available in a standardized format to facilitate market research and help agency managers rationalize contracting efforts.

• The Federal Procurement Data System—Next Generation (FPDS-NG) will entirely transform how information about acquisition activities is captured. As this new management information system is phased in over the next two years, agencies and the public will enjoy faster and wider access to transactional information as well as real-time web-based reporting.

Several public interest groups have requested that agencies make contracts available online. These groups believe this type of transparency will facilitate constructive dialogue to promote model contracting, improve weak practices, and reduce repetitive requests under the Freedom of Information Act (FOIA) for contracts that are of particular interest to the public. While a limited amount of information about awarded contracts is available today through FPDS and FedBizOpps, Federal contracts are not routinely posted on the web.

In light of the public interest in having contracts posted and the benefits derived through improved transparency in acquisition generally, the IAE program office is initiating a project to pilot the online posting of Federal contracts. The IAE program office intends to scope the pilot in a manner that is both (1) responsive to the interests of our taxpayers, and (2) reasonable in light of potential costs and burden associated with this effort and the capabilities of technology currently employed by the Government. This scope may be modified based on the success of initial pilot efforts and future enhancements to the Government's technology infrastructure. It may also be re-scoped to include grants. Irrespective of how the pilot is structured, any proprietary information contained in a contract covered by the pilot would be redacted before posting.

The program office welcomes the public's comments in helping to identify priorities for implementing the pilot. Comments are especially welcome on the following issues:

1. Scope and availability. What parameters (factors) should guide the initial shape of the pilot (e.g., size or type of contract; amount of competition sought; product or service purchased; awards related to specific Federal programs)? How long should contracts remain available after they have been posted?

2. Guidance. What, if any, type of guidance may be beneficial to ensure posting is consistent with applicable laws and regulations (e.g., is there a need for guidance to address the redaction of proprietary information, the identification of contracts whose disclosure would compromise the national security, or the application of FOIA generally)?

Dated: June 3, 2003.
David A. Drabkin,
Deputy Associate Administrator, Office of Acquisition Policy.

[FR Doc. 03-14341 Filed 6-5-03; 8:45 am]

BILLING CODE 6820-61-P